INTERNATIONAL TRADE COMMISSION

[Investigation No. 337-TA-683]

In the Matter of: Certain MLC Flash Memory Devices and Products Containing Same; Notice of Commission Determination Not To Review an Initial Determination Granting Complainants' Motion To Amend the Complaint and Notice of Investigation To Add a Respondent

AGENCY: U.S. International Trade Commission.

ACTION: Notice.

SUMMARY: Notice is hereby given that the U.S. International Trade Commission has determined not to review the presiding administrative law judge's (“ALJ”) initial determination (“ID”) (Order No. 8) granting complainant's motion to amend the complaint and notice of investigation.

FOR FURTHER INFORMATION CONTACT: Megan M. Valentine, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 27, 2009, based on a complaint filed by BTG International, Inc. of West Conshohocken, Pennsylvania (“BTG”). 74 FR. 43723-4 (August 27, 2009). The complaint, as amended and supplemented, alleges violations of section 337 of the Tariff Act of 1930, as amended, 19 U.S.C. * 1337, in the importation into the United States, the sale for importation, and the sale within the United States after importation of certain power supplies by reason of infringement of certain claims of U.S. Patent Nos. 5,394,362; 5,764,571; 5,872,735, 6,104,640; and 6,118,692. The complaint further alleges the existence of a domestic industry. The Commission's notice of investigation named various respondents, including Lenovo Group Limited of Quany Bay, Hong Kong (“Lenovo Group”).

On October 21, 2009, BTG and respondent Lenovo Group filed a joint motion to amend the Complaint and Notice of Investigation to replace Lenovo Group with Lenovo (Singapore) Pte. Ltd (“LSPL”). The motion indicated that the Commission investigative attorney did not oppose the motion. No responses to the motion were filed.

On November 5, 2009, the ALJ issued the subject ID granting the motion, finding that, pursuant to Commission Rule 210.14(b)(1) (19 C.F.R. **210.14(b)(1)), there was good cause to substitute LSPL for Lenovo Group as a respondent. No petitions for review of this ID were filed.

The Commission has determined not to review the ID.

The authority for the Commission's determination is contained in section 337 of the Tariff Act of 1930, as amended (19 U.S.C. 1337), and in section 210.42 of the Commission's Rules of Practice and Procedure (19 CFR 210.42).

By order of the Commission.
Issued: November 23, 2009.
William R. Bishop,
Acting Secretary to the Commission.

[FR Doc. E9-28360 Filed 11-25-09; 8:45 am]

BILLING CODE P